DEPARTMENT OF AGRICULTURE

Foreign Agricultural Service

Trade Adjustment Assistance for Farmers

AGENCY: Foreign Agricultural Service, USDA.

ACTION: Notice.

The Administrator, Foreign Agricultural Service (FAS), today announced that a group of apple growers in Rappahannock County, Virginia, has filed a petition for trade adjustment assistance. The growers produce apples for processing and have requested a public hearing to present evidence that concentrated apple juice is a like or directly competitive product. A hearing will be held on March 2, 2004, at 2 p.m. e.t. in Room 5066, South Agricultural Building, 1400 Independence Ave, SW., Washington, DC.

SUPPLEMENTARY INFORMATION: The petition maintains that during July 1, 2002, through June 30, 2003, increasing imports of apple juice concentrate contributed importantly to a decline in domestic producer prices by more than 20 percent. To support their contention, the growers submitted published price lists of local processors. Having filed this petition, the Administrator has 40 days to determine whether or not the apple producers are eligible for trade adjustment assistance. If the determination is positive, they will be eligible to apply to the Farm Service Agency for technical assistance at no cost and adjustment assistance payments.

FOR FURTHER INFORMATION CONTACT: Jean-Louis Pajot, Coordinator, Trade Adjustment Assistance for Farmers, FAS, USDA, (202) 720-2916, e-mail: trade.adjustment@fas.usda.gov.

Dated: February 11, 2004.
A. Ellen Terpstra,
Administrator, Foreign Agricultural Service.

[FR Doc. 04-3801 Filed 2-20-04; 8:45 am]

BILLING CODE 3410-10-P